DEPARTMENT OF COMMERCE

International Trade Administration

[A-570-504]

Petroleum Wax Candles from the People's Republic of China: Rescission, in Part, of Antidumping Duty Administrative Review

AGENCY: Import Administration, International Trade Administration, U.S. Department of Commerce.

SUMMARY: The Department of Commerce (“the Department”) is rescinding its administrative review of twenty-one companies under the antidumping order on petroleum wax candles from the People's Republic of China (PRC) for the period August 1, 2002 through July 31, 2003. This rescission, in part, is based on the timely withdrawl of the request for review by the only interested party that requested a review of these twenty-one companies. A complete list of the companies for which the administrative review is being rescinded is provided in the Rescission, in Part, of Administrative Review section below. The Department is not rescinding its review of Dongguan Fay Candle Co., Ltd. (Fay Candle) and Qingdao Kingking Applied Chemistry Co., Ltd. (Qingdao Kingking), because each of these companies self-requested an administrative review.

EFFECTIVE DATE: February 10, 2004

FOR FURTHER INFORMATION CONTACT: Javier Barrientos or Sally Gannon at (202) 482-2243 and (202) 482-0162, respectively, Import Administration, International Trade Administration, U.S. Department of Commerce, 14th Street and Constitution Avenue, N.W., Washington, DC 20230.

SUPPLEMENTARY INFORMATION:

Background

The Department published in the Federal Register an antidumping duty order on petroleum wax candles from the PRC on August 28, 1986 (51 FR 30686). Pursuant to its Notice of Opportunity to Request an Administrative Review, 68 FR 45218 (August 1, 2003), and in accordance with section 751(a)(1)(B) of the Act and section 351.213(b) of the Department's regulations, the Department received a timely request by the National Candle Association (“Petitioner”) to conduct an administrative review of the antidumping duty order on petroleum wax candles from the PRC for twenty-three companies. Two of the twenty-three companies requested by the Petitioner (Fay Candle and Qingdao Kingking) individually requested a review. As such, the Petitioner was the sole requestor for twenty-one companies.

On September 30, 2003, the Department published its Notice of Initiation of Antidumping and Countervailing Duty Administrative Reviews, Requests for Revocation in Part and Deferral of Administrative Review, 68 FR 56262 (September 30, 2003) (Initiation Notice), initiating on all twenty-three candle companies for which an administrative review was requested. On December 24, 2003, the Department received a timely withdrawal from the Petitioner of its request for an administrative review of all twenty-three companies for which it had requested a review.

Rescission, in Part, of Administrative Review

Pursuant to section 351.213(d)(1) of the Department's regulations, the Department may rescind an administrative review, “if a party that requested the review withdraws the request within 90 days of the date of publication of notice of initiation of the requested review.” Because the Petitioner has timely withdrawn its request for review within the ninety-day period, and because Petitioner was the sole party to request a review for twenty-one of the twenty-three companies for which a review was requested, we are rescinding this administrative review, in part, for the period August 1, 2002 to July 31, 2003, for the following companies: Amstar Business Co., Ltd.; AtHome America; Avon Products, Inc.; Candle World Industrial Co.; Dalian Hanbo Lighting Co., Ltd.; Generaluxe Factory; Guangdong Xin Hui City Si Qian Art & Craft Factory; Jiangsu Holly Corporation; Li & Fung Trading Ltd.; Premier Candle Co. Ltd.; Shandong Jiaye Gen. Merch.; Shanghai Charming Wax Co., Ltd.; Simon Int'l Ltd.; Sincere Factory Company; Smartcord Int'l Co., Ltd./Rich Talent Trading; Suzhou Ind'l Park Nam Kwong; Taizhou Int'l Trae Corp.; Two's Company Inc.; Universal Candle Co., Ltd.; Zen Continental Co., Inc.; and, Zhong Hang-Scanwell International/Scanwell Freight Express (LAX), Inc. However, we will continue the administrative review with respect to Fay Candle and Qingdao Kingking, as these companies individually submitted a request for review.

The Department will issue appropriate assessment instructions directly to the U.S. Customs and Border Protection (Customs) within 15 days of the publication of this notice. The Department will direct Customs to assess antidumping duties for these companies at the cash deposit rate in effect on the date of entry for entries during the period August 1, 2002 to July 31, 2003.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with sections 351.213(d)(4) of the Department's regulations and, sections 751(a)(2)(C) and 777(i)(1) of the Tariff Act of 1930, as amended.

Dated: January 27, 2004.
James J. Jochum,
Assistant Secretary for Import Administration.

[FR Doc. 04-2860 Filed 2-9-04; 8:45 am]

BILLING CODE 3510-DS-S